DEPARTMENT OF COMMERCE

International Trade Administration

[A-570-947]

Certain Steel Grating from the People's Republic of China: Postponement of Final Determination

AGENCY: Import Administration, International Trade Administration, Department of Commerce.

DATES: Effective Date: February 4, 2010.

FOR FURTHER INFORMATION CONTACT: Thomas Martin or Zhulieta Willbrand, AD/CVD Operations, Office 4, Import Administration, International Trade Administration, U.S. Department of Commerce, 14th Street and Constitution Avenue, NW, Washington DC 20230; telephone: (202) 482-3936 or (202) 482-3147, respectively.

SUPPLEMENTARY INFORMATION:

Postponement of Final Determination and Extension of Provisional Measures

On January 7, 2010, Ningbo Jiulong Machinery Manufacturing Co., Ltd. (“Ningbo Jiulong”) requested that pursuant to the affirmative preliminary determination in this investigation, the Department of Commerce (“the Department”) postpone its final determination by 30 days under section 735(a)(2) of the Tariff Act of 1930, as amended (“the Act”).¹ Ningbo Jiulong also requested that the Department extend the application of the provisional measures prescribed under 19 CFR 351.210(e)(2) to a 6-month period. In accordance with section 735(a)(2) of the Act and 19 CFR 351.210(b), because (1) our preliminary determination is affirmative, (2) the requesting exporter accounts for a significant proportion of exports of the subject merchandise, and (3) no compelling reasons for denial exist, we are granting the request and are postponing the final determination until no later than 135 days after the publication of the preliminary determination notice in the Federal Register, or May 21, 2010. Further, in accordance with section 733(d) of the Act, suspension of liquidation will be extended accordingly. This postponement is issued and published in accordance with19 CFR 351.210(g).

¹ Ningbo Jiulong previously requested, on December 14, 2009, that the Department postpone its final determination by 30 days, and extend the application of the provisional measures prescribed under 19 CFR 351.210(e)(2) until the corresponding date of the final determination. The Department granted the request. See Certain Steel Grating From the People's Republic of China: Preliminary Determination of Sales at Less Than Fair Value and Postponement of Final Determination, 75 FR 847, 848 (January 6, 2010).

Dated: January 28, 2010.
Ronald K. Lorentzen,
Deputy Assistant Secretary for Import Administration.

[FR Doc. 2010-2316 Filed 2-3-10; 8:45 am]

BILLING CODE 3510-DS-S